DEPARTMENT OF HOUSING AND URBAN DEVELOPMENT

[Docket No. FR-4579-FA-03]

Announcement of Funding Awards—Fiscal Year 2000 Office of Troubled Agency Recovery Cooperative Agreements

AGENCY: Office of the Assistant Secretary for Public and Indian Housing, HUD.

ACTION: Announcement of funding awards.

SUMMARY: In accordance with section 102(a)(4)(C) of the Department of Housing and Urban Development Reform Act of 1989, this announcement notifies the public of funding decisions made by the Department from funds distributed to the Office of Troubled Agency Recovery during Fiscal Year 2000. This announcement contains the name and address of all awardees and the amount of each award.

FOR FURTHER INFORMATION CONTACT: Kathryn Edgar, Department of Housing and Urban Development, 451 Seventh Street, SW, Washington, DC 20410, telephone (202) 708-1141. Hearing- or speech-impaired individuals may call HUD's TDD number (202) 708-4594. (These numbers are not toll-free.)

SUPPLEMENTARY INFORMATION: The Cooperative Agreement with each of the following recipients was issued pursuant to Section 6(j) of the United States Housing Act of 1937. The awards will be used to provide technical assistance to support troubled agency recovery efforts and funding assistance as necessary to remedy the substantial deterioration of living conditions in public housing or other related emergencies that endanger the health, safety, and welfare of the residents.

The Catalog of Federal Domestic Assistance number for this program is 14.859.

In accordance with section 102(a)(4)(C) of the Department of Housing and Urban Development Reform Act of 1989 (103 Stat. 1987, 42 U.S.C. 3545), the Department is publishing the name, address, and amount of each award as follows:

Awardee | Amount
San Francisco Housing Authority, 440 Turk Street, San Francisco, CA 94102 | $367,139
Housing Authority of New Haven, 360 Orange St., New Haven, CT 06501 | 540,000
Housing Authority of New London, 78 Walden Avenue, New London, CT 06320 | 111,000
Topeka Housing Authority, 2101 SE California Avenue, Topeka, KS 66607 | 150,000
Housing Authority of New Orleans, 4100 Touro Street, New Orleans, LA 70122 | 150,000
Inkster Housing Commission, 4500 Inkster Road, Inkster, MI 48141 | 3,500
Muskegon Housing Commission, 1823 Commerce Street, Muskegon, MI 49440 | 115,000
Housing Authority of Kansas City, 299 Paseo, Kansas City, MO 64106 | 475,000
Saint Louis Housing Authority, 4100 Lindell Boulevard, Saint Louis, MO 63108 | 800,000
Wellston Housing Authority, 1584 Ogdon Avenue, Wellston, MO 63112 | 50,000
Sainte Genevieve Housing Authority, 225 Saint Joseph Street, Sainte Genevieve, MO 63670 | 55,000
Omaha Housing Authority, 540 South 27th Street, Omaha, NE 68105 | 275,000
Clinton Metropolitan Housing Authority, 478 Thorne Avenue, Wilmington, OH 45177 | 50,000
Potter County Housing Authority, East Seventh Street, Coudersport, PA 16915 | 7,500
Philadelphia Housing Authority, 2021 Chestnut Street, Philadelphia, PA 19103 | 1,800,000
Franklin Housing Authority, 601 Campbell Avenue, Franklin, VA 23851 | 40,000

Dated: November 29, 2000.
Milan Ordinec,
Acting General Deputy, Assistant Secretary for Public and Indian Housing.

[FR Doc. 00-30988 Filed 12-5-00; 8:45 am]

BILLING CODE 4210-33-P